ENVIRONMENTAL PROTECTION AGENCY

[FRL-7622-3]

Notice of Request for Initial Proposals (IP) for Projects To Be Funded From the Water Quality Cooperative Agreement Allocation (CFDA 66.463—Water Quality Cooperative Agreements)

AGENCY: Environmental Protection Agency (EPA).

ACTION: Notice.

SUMMARY: EPA Region 6 is soliciting Initial Proposals (IP) from State water pollution control agencies, interstate agencies, other public or nonprofit agencies, institutions, organizations, and other entities as defined by the Clean Water Act (CWA), interested in applying for Federal assistance for Water Quality Cooperative Agreements under the CWA section 104(b)(3) in the states of Arkansas, Louisiana, New Mexico, Oklahoma and Texas. Region 6 EPA intends to award an estimated $1 million to eligible applicants through assistance agreements ranging in size, on average, from $40,000 up to $200,000 (Federal) for innovative projects/demonstrations/studies that can be used as models relating to the prevention, reduction, and elimination of water pollution. From the IPs received, EPA estimates up to 8 to 10 projects may be selected to submit full applications. The Agency reserves the right to reject all IPs and make no awards. A Request for Proposals for Tribal governments will be issued under a separate notice.

DATES: EPA will consider all proposals received on or before 5 p.m. central standard time April 12, 2004. IPs received after the due date will not be considered for funding.

ADDRESSES: IPs should be mailed to: Terry Mendiola (6WQ-AT), U.S. Environmental Protection Agency, Region 6, Water Quality Protection Division, 1445 Ross Avenue, Dallas, Texas 75202-2733. Overnight Delivery may be sent to the same address.

FOR FURTHER INFORMATION CONTACT: Terry Mendiola by telephone at 214-665-7144 or by e-mail at mendiola.teresita@epa.gov.

Required Overview Content:

Federal Agency Name—Environmental Protection Agency, Water Quality Division, State Tribal Programs Section.

Funding Opportunity Title—Water Quality Cooperative Agreements.

Announcement Type—Initial announcement.

Catalog of Federal Domestic Assistance (CFDA) Number—CFDA 66.463—Water Quality Cooperative Agreements

Dates—April 12, 2004—Proposals due to EPA.

June 11, 2004—Initial approvals identified and sponsors of projects selected for funding will be requested to submit a formal application package.

SUPPLEMENTARY INFORMATION:

I. Funding Opportunity Description

EPA Region 6's Water Quality Protection Division is requesting proposals from State water pollution control agencies, interstate agencies, other public or nonprofit agencies, institutions, organizations, and other entities as defined by the CWA for unique and innovative projects that address the National Pollutant Discharge Elimination System (NPDES) program with special emphasis on concentrated animal feeding operations (CAFO) permitting, watershed integration through NPDES, and homeland security, as well as, water quality studies relating to water quality standards, monitoring and assessment, ecoregion and subregion delineation, harmful algal blooms, and biological criteria.

Funding is authorized under the provisions of the CWA section 104(b)(3), 33 U.S.C.1254(b)(3). The regulations governing the award and administration of Water Quality Cooperative Agreements are in 40 CFR part 30 (for institutions of higher learning, hospitals, and other nonprofit organizations) and 40 CFR part 31 (for States, local governments, and interstate agencies).

An organization whose IP is selected for possible Federal assistance must complete an EPA Application for Assistance, including the Federal SF-424 form (Application for Federal Assistance, see 40 CFR 30.12 and 31.10).

High Priority Areas for Funding Consideration

WQCAs awarded under section 104(b)(3) may only be used to conduct and promote the coordination and acceleration of activities such as research, investigations, experiments, training, education, demonstrations, surveys, and studies relating to the causes, effects, extent, prevention, reduction, and elimination of water pollution. These activities, while not defined in the statute, advance the state of knowledge, gather information, or transfer information. For instance, “demonstrations” are generally projects that demonstrate new or experimental technologies, methods, or approaches and the results of the project will be disseminated so that others can benefit from the knowledge gained. A project that is accomplished though the performance of routine, traditional, or established practices, or a project that is simply intended to carry out a task rather than transfer information or advance the state of knowledge, however worthwhile the project may be, is not a demonstration. Research projects may include the application of the practices when they contribute to learning about an environmental concept or problem.

EPA will award WQCAs for research, investigations, experiments, training, demonstrations, surveys and studies related to the causes, effects, extent, prevention, reduction, and elimination of water pollution in the following subject areas:

CAFO Permitting Support

Demonstration of treatment/reuse/disposal technologies and controls that are designed to reduce CAFO-based nutrients in watersheds, with a demonstration of amount of loading reductions from those technologies, e.g., handling phosphorus-rich poultry litter in northwest Arkansas/northeast Oklahoma; efficacy of wetlands to polish runoff or overflow from ponds and/or land application processes.

Demonstration of nutrient indicator tracing in CAFO dominated, nutrient impaired watersheds, e.g., ribo-typing study to determine source of bacteria and pathogens, or nitrogen-ion study to determine source of nitrogen in waters, or hormone or antibiotic study to determine sources of excreted waste material.

Watershed Integration of Water Programs Under the CWA Through NPDES

Development of innovative permit tool(s) supporting watershed-based permitting activities for specific parameters. Establish a technique for identifying all dischargers and their respective contribution levels for parameter(s) of concern within an impaired watershed. Should determine the overall impact of point and non-point dischargers on receiving waters. Pollutant data for water quality parameters, such as nutrients, dissolved oxygen, fecal coliform, etc., could be used in the development of a model (such as self-implementing general permits) for permitting activities. The model may incorporate unique permitting approaches including effluent trading scenarios (in accordance with the Water Quality Trading Policy, January 13, 2003), which may be implemented in the general permit for specific water quality parameters.

Homeland Security for NPDES

Studies of ability of conventional or innovative wastewater treatment plant processes to effectively treat, remove, or render harmless biological, chemical, or radiological agents, which could be introduced into the collection or treatment system.

Development of models for hardening of collection systems, lift stations, and wastewater treatment plant processes to prevent introduction of harmful biological, chemical, or radiological agents.

Characterization of Ecological Condition

Estimation of the extent of waters attaining designated beneficial uses, and determination of causes of impairment, based on a core set of indicators of ecological condition and environmental stressors. Biological measures should form the primary basis for assessing attainment of the aquatic life use with chemical, physical, and watershed measurements used to assess and rank the relative importance of stressors.

Nutrient Criteria

Development of effects based nutrient criteria and assessment methods, based on the relationship(s) between evidence of impairment of biological integrity, and/or other response indicators, and instream nutrient concentrations observed at reference waterbodies. Priority consideration will be given to proposals that also address criteria development and refinement for other naturally occurring water quality constituents.

Ecoregion and Subregion Delineation

Ecoregion and subregion delineation providing an improved basis for waterbody classification, supporting definition of water quality management goals and expectations, development of water quality standards, and water quality monitoring and assessment.

Harmful Algal Blooms

Critical research, monitoring necessary to characterize spacial and temporal extent of blooms, and implementation of measures to manage and control harmful algal blooms (HABs) in fresh or marine waters using innovative, cost effective watershed based approaches. HABs include golden alga (Pyrmnesium parvum), red tide, blue-green algae and brown algae. Of particular concern is the golden alga, which has established in numerous river basins in west Texas and New Mexico and has the potential to spread to other states.

Development of Biological Criteria for Large Rivers

Development of attainable conditions for biological integrity in large rivers, where conventional reference waterbody approaches are not feasible, based on historical aquatic assemblage data from the same or similar waterbodies, habitat-modeling techniques, or other innovative approaches.

II. Award Information

Region 6 EPA intends to award an estimated $1 million to eligible applicants through assistance agreements ranging in size, on average, from $40,000 up to $200,000 (Federal) for innovative projects/demonstrations/studies that can be used as models relating to the prevention, reduction, and elimination of water pollution. From the IPs received, EPA estimates up to 8 to 10 projects may be selected to submit full applications. The average size of an award is anticipated to be approximately $100,000. Awards will be made in the summer of 2004. Typically, the project and budget period for these awards is one to two years, with an average of about two years. Organizations who have an existing agreement under this program are eligible to compete for new awards, including supplementation to existing projects.

It is expected that all the awards under this program will be cooperative agreements. States and interstate agencies meeting the requirements in 40 CFR 35.504 may include the funds for WQCA in a Performance Partnership Grant (PPG) in accordance with the regulations governing PPGs in 40 CFR part 35, subparts A and B. For states and interstate agencies that choose to do so, the regulations provide that the workplan commitments that would have been included in the WQCA must be included in the PPG workplan.

A description of the Agency's substantial involvement in cooperative agreements will be included in the final agreement.

III. Eligibility Information

1. Eligible Applicants

Eligible applicants for assistance agreements under section 104(b)(3) of the CWA are State water pollution control agencies, interstate agencies, other public or nonprofit agencies, institutions, organizations, and other entities as defined by the CWA in the states of Arkansas, Louisiana, New Mexico, Oklahoma and Texas. IPs received for projects outside of Region 6 will not be considered.

2. Cost Sharing or Matching

A minimum match of five percent will be required for all approved projects and should be included in the total funding requested for each proposal submitted.

3. Other

The specific criteria listed in the Criteria section of V. Application Review Information can also be considered eligibility criteria. The IPs will be evaluated by Region 6 in a two phased approach. Initially, each IP will be evaluated against the specific criteria listed under the priority area for which it was submitted. In order for the IP to be considered in the second evaluation phase, it must address, at a minimum, ALL the specific criteria listed under the priority area. Once it is determined that all the specific criteria has been addressed, proposals will be evaluated on how well they address the specific criteria. Eligible proposals will then be evaluated in the second phase of the review process.

IV. Application and Submission Information

1. Address To Request Application Package

Full application packages should not be submitted at this time; Region 6 is only requesting initial proposals. Initial proposal format and content is included below. Upon notification of final selections, applicants will be instructed how financial assistance application packages can be obtained.

2. Proposal Format and Contents

IPs should be no more than three pages with a minimum font size of 10 pitch in Wordperfect/Word or equivalent. Failure to follow the format or to include all requested information could result in the IP not being considered for funding. It is recommended that confidential information not be included in this IP. The following format should be used for all IPs:

Name of Project:

Priority Area Addressed: Only one priority area should be listed. If more than one addressed, select best. (i.e., CAFO Permitting Support, Homeland Security for NPDES, Nutrient Criteria, etc.):

Point of Contact: (Individual and Agency/Organization Name, Address, Phone Number, Fax Number, E-mail Address)

Is This a Continuation of a Previously Funded Project (if so, please provide the status of the current grant or cooperative agreement):

Proposed Federal Amount:

Proposed Non-Federal Match (minimum of 5%): The match is based on the total project cost not the Federal amount. To determine a proposed minimum match of 5%, use the following example:

Federal amount = $25,000

Total Project Cost = T

The Federal amount is 95% of T, therefore:

$25,000 = T × 0.95

$25,000/0.95 = T

$26,316 = T (round the decimal)

If the total project cost is $26,316, then:

$26,316 × 0.05 = $1,316 non-Federal match

Proposed Total Award Amount:

Description of General Budget Proposed To Support Project:

Project Description: (Should not exceed two pages of single-spaced text)

Expected Accomplishments or Product, With Dates, and Interim Milestones: This section should also include a discussion of a communication plan for distributing the project results to interested parties.

Environmental Results and Outcomes:

Describe How the Project Meets the Evaluation Criteria Specified in Section V. Application Review Information:

3. Submission Dates and Times

This is the estimated schedule of activities for submission, review of proposals and notification of selections:

April 12, 2004—Proposals due to EPA.

June 11, 2004—Initial approvals identified and sponsors of projects selected for funding will be requested to submit a formal application package.

4. Intergovernmental Review

Applicants requested to submit a full application will be required to comply with Intergovernmental Review requirements (40 CFR part 29).

5. Funding Restrictions

The following information should be considered in developing proposal(s):

• Construction projects, except for the construction required to carry out a demonstration project, and acquisition of land are not eligible for funding under this program.

• New or on-going programs to implement routine environmental controls are not eligible for funding under this program.

• Although proposals may meet more than one of the priority areas listed in Section I. Funding Opportunity Description, select only one and identify that priority area in the proposal format.

• It is encouraged that indirect cost be limited to 15 percent.

6. Other Submission Requirements

Applicants may submit IPs only in hard copy. EPA will consider all proposals received on or before 5 p.m. central standard time April 12, 2004. IPs received after the due date will not be considered for funding. IPs should be mailed to: Terry Mendiola (6WQ-AT), U.S. Environmental Protection Agency, Region 6, Water Quality Protection Division, 1445 Ross Avenue, Dallas, Texas 75202-2733. Overnight Delivery may be sent to the same address. Please mail three copies of the IP(s).

V. Application Review Information

1. Criteria

EPA Region 6 will award WQCA on a competitive basis and evaluate IPs based on specific and general criteria. EPA Region 6 has identified several subject areas for priority consideration. To be eligible to compete for funding, all specific criteria must be addressed/met for the priority area in which it was submitted (refer to Section III. Eligibility Information # 3).

The following specific criteria will be used to evaluate the subject priority area:

CAFO Permitting Support, specifically, the demonstration of treatment/reuse/disposal technologies and controls that are designed to reduce CAFO-based nutrients in watersheds, with a demonstration of amount of loading reductions from those technologies, etc. The following specific criteria will be used to evaluate this priority area:

• Demonstrate treatment/reuse/disposal technologies and controls through testing and/or modeling.

• Report on the efficiencies.

CAFO Permitting Support, specifically, the demonstration of nutrient indicator tracing in CAFO dominated, nutrient impaired watersheds, etc. The following specific criteria will be used to evaluate this priority area:

• Demonstrate nutrient indicator tracing in CAFO dominated, nutrient impaired watersheds, with identification and differentiation of sources of animal/CAFO wastes from human wastes.

Watershed Integration of Water Programs Under the CWA Through NPDES, specifically, the development of innovative permit tool(s) supporting watershed-based permitting activities for specific parameters, etc. The following specific criteria will be used to evaluate this priority area:

• Include consideration of all waterbodies in a watershed.

• Include consideration of all point sources.

• Consider net contribution of non-point sources in aggregate effects.

• Provide aggregate water quality modeling which determines aggregate effects in the watershed.

Homeland Security for NPDES, specifically, studies of ability of conventional or innovative wastewater treatment plant processes to effectively treat, remove, or render harmless biological, chemical, or radiological agents, which could be introduced into the collection or treatment system, etc. The following specific criteria will be used to evaluate this priority area:

• Actual performance data of processes vs. technical predictions of performance.

• Enhanced security procedure models and development of model emergency operating plans.

Characterization of Ecological Condition, specifically, the estimation of the extent of waters attaining designated beneficial uses, and determination of causes of impairment, based on a core set of indicators of ecological condition and environmental stressors, etc. The following specific criteria will be used to evaluate this priority area:

• Mechanisms to evaluate the interrelationships between biological assemblages, ambient water chemistry, fish tissue contaminants, physical habitat, and/or watershed characteristics.

• Potential to improve a state's approaches to make decisions about whether or not water quality standards are being attained.

• Apply a probabilistic approach to site selection to support estimates of conditions across an entire study area.

• Result in the ability to compare environmental indicator data across state and regional boundaries for ambient and reference conditions.

• Offers the potential to improve a state's approach to estimate the extent of waterbody impairment statewide.

• Results integrated into State 305(b) report.

• All data entered into EPA STORET database.

Nutrient Criteria, specifically, the development of effects based nutrient criteria and assessment methods, based on the relationship(s) between evidence of impairment of biological integrity, and/or other response indicators, and instream nutrient concentrations observed at reference waterbodies. Priority consideration will be given to proposals that also address criteria development and refinement for other naturally occurring water quality constituents. The following specific criteria will be used to evaluate this priority area:

• Demonstrate approaches or provide tools that may be applied in other areas.

• Apply the latest scientific approaches or innovative techniques to establish and validate the relationship(s) between elevated nutrient concentrations and indicator response.

• Result in recommendations for numeric water quality criteria standards or criteria that can be applied to a class of waters (rather than individual waters).

• Include mechanisms for technology transfer.

• All data entered into EPA's STORET database.

Ecoregion and Subregion Delineation, specifically, ecoregion and subregion delineation providing an improved basis for waterbody classification, supporting definition of water quality management goals and expectations, development of water quality standards, and water quality monitoring and assessment. The following specific criteria will be used to evaluate this priority area:

• Conducted in New Mexico.

• High degree of coordination among natural resource and environmental management agency scientists.

• Result in completion of ecoregion and subregion boundaries and descriptions for an entire state.

• Conducted using methods comparable to those employed in other states by the EPA Office of Research and Development, National Health and Environmental Effects Research Laboratory, to achieve level IV subregionalization.

• Result in a nationally consistent set of subregion management units.

Harmful Algal Blooms, specifically, critical research, monitoring necessary to characterize spacial and temporal extent of blooms, and implementation of measures to manage and control harmful algal blooms (HABs) in fresh or marine waters using innovative, cost effective watershed based approaches, etc. The following specific criteria will be used to evaluate this priority area:

• Represent a significant step(s) of critical importance in understanding factors causing algal blooms.

• Incorporates both sound proven scientific methods and innovative approaches in managing and controlling HABs.

• Use of monitoring to assess geographic extent and temporal patterns resulting in a more targeted strategy to manage and control HABs.

Development of Biological Criteria for Large Rivers, specifically, the development of attainable conditions for biological integrity in large rivers, where conventional reference waterbody approaches are not feasible, based on historical aquatic assemblage data from the same or similar waterbodies, habitat-modeling techniques, or other innovative approaches. The following specific criteria will be used to evaluate this priority area:

• Results in the development of assessment methods for narrative water quality standards biocriteria or the adoption of numeric biocriteria for one or more aquatic assemblages.

• Based on sound scientific methods, waterbody classification approaches, and conventional collection methods that are practical for use by state environmental agencies.

• Yields comparable assessments to those conducted across state lines and other geopolitical boundaries.

The following general criteria will be used to evaluate each eligible proposal:

• Adequacy of proposal, including the relationship of the proposed project to the priorities identified in this notice, innovation of project proposal and level of multi-organizational support, if needed. (10 points)

• Compliance with proposal format/guidance, including how well the proposal follows the solicitation notice, clearly defined milestones/schedule and clearly identified deliverables. (5 points)

• Cost effectiveness/likelihood of success of the proposal, including adequacy of resources committed to project/realistic budget, realistic implementation schedule and clearly defined measures of success that are reasonably attainable. (5 points)

• Applicant's past performance, if applicable. (minus (−) 3 points max.)

2. Review and Selection Process

The IPs will be evaluated by regional staff in a two phased approach. Initially, each IP will be evaluated against the specific criteria listed under the priority area for which it was submitted. In order for the IP to be considered in the second evaluation phase, it must address, at a minimum, ALL the specific criteria listed under the priority area. Once it is determined that all the specific criteria has been addressed, proposals will be evaluated on how well they address the specific criteria for a possible total score of 10 points.

In the second phase, each IP will be evaluated against the general criteria listed above for a possible total score of 20. Points will be taken away for poor past performance if knowledge of applicant's past performance is available to EPA. Points from Phase 1 and 2 will be added together for a possible total score of 30 points.

Final selection of IPs will be made by the Director of Water Quality Protection Division, EPA Region 6.

VI. Award Administration Information

1. Award Notices

Selected organizations will be notified in writing and requested to submit full applications. Applications, including workplans, are subject to EPA review and approval. It is expected that unsuccessful applicants will be notified in writing.

2. Administrative and National Policy Requirements

Applicants whose proposals contemplate contracting for services or products must comply with applicable regulations relating to competitive procurement and preparation of cost or price analyses in accordance with 40 CFR 30.40 through 30.48 (for institutions of higher learning, hospitals, and other nonprofit organizations) and 40 CFR 31.36 (for States, local governments, and interstate agencies). Identifying a contractor in a proposal does not exempt the applicant from these requirements. Applicants requested to submit a full application will be required to confirm compliance with competitive procurement procedures.

Additionally, applicants requested to submit a full application will be required to comply with the Quality Assurance requirements (40 CFR 30.54 and 31.45) if projects involve environmentally related measurements or data generation. Prior to award, a Quality Management Plan must be submitted and approved by EPA.

Applicants must provide a Dun and Bradstreet (D&B) Data Universal Numbering System (DUNS) number with the full application. Organizations may obtain the number by calling, toll free, 1-866-705-5711.

Applicants requested to submit a full application may incur pre-award costs 90 calendar days prior to award provided such costs are included in the application, the costs meet the definition of pre-award costs and are approved by EPA. Pre-award costs are those costs incurred prior to the effective date of the award directly pursuant to the negotiation and in anticipation of the award where such costs are necessary to comply with the proposed delivery schedule or period of performance and are in conformance with the appropriate statute and cost principles. The approval of pre-award costs should be reflected in the budget period on the assistance agreement and if applicable, under a term and condition of the assistance agreement. Recipients incur pre-award costs at their own risk (i.e., EPA is under no obligation to reimburse such costs if for any reason the recipient does not receive an award or if the award is less than anticipated and inadequate to cover such costs).

Procedures for dispute resolution process are located in 40 CFR 30.63 and 31.70 apply.

It is encouraged that indirect cost be limited to 15 percent or less.

3. Reporting

Post award reporting requirements include, at a minimum, submission of semi-annual project status reports with submission of a final report prior to the end of the budget/project period. Means of submission and report format will be negotiated in the workplan.

VII. Agency Contacts

Point of Contact: Terry Mendiola by telephone at 214-665-7144 or by e-mail at mendiola.teresita@epa.gov.

VIII. Other Information

A list of selected projects will be posted on the Region 6 Water Quality Protection Division, Assistance Programs Branch Web site http://www.epa.gov/earth1r6/6wq/at/sttribal.htm. This Web site may also contain additional information about this request. Deadline extensions, if any, will be posted on this Web site and not in the Federal Register.

Dated: February 4, 2004.
James R. Brown,
Acting Director, Water Quality Protection Division, Region 6.

[FR Doc. 04-3091 Filed 2-11-04; 8:45 am]

BILLING CODE 6560-50-P